FEDERAL DEPOSIT INSURANCE CORPORATION

Notice of Cancellation of Agency Meeting

Pursuant to the provisions of the “Government in the Sunshine Act” (5 U.S.C. 552b), notice is hereby given that the previously announced Open meeting of the Board of Directors of the Federal Deposit Insurance Corporation scheduled to be held at 10:00 a.m. on Thursday, June 26, 2025, has been cancelled.

The Board has decided to act notationally on the agenda items requiring action and therefore will not be holding a Board meeting today.

No earlier notice of this cancellation was practicable.

Dated: June 30, 2025.

(Authority: 5 U.S.C. 552b.)

Dated at Washington, DC, on June 30, 2025.
Federal Deposit Insurance Corporation.
Debra A. Decker,
Executive Secretary.

[FR Doc. 2025-12327 Filed 7-1-25; 8:45 am]

BILLING CODE 6714-01-P